DEPARTMENT OF LABOR

Office of the Secretary; Solicitation for Grant Applications (SGA) 03-18; Strengthening the Capacity of the Moroccan Labor Ministry

AGENCY: Bureau of International Labor Affairs, Labor.

ACTION: Notice of correction.

SUMMARY: In the Federal Register, Vol. 68, No. 139, Monday, July 21, 2003 the competition was announced and the SGA printed in its entirety. The recent power outage in several states has caused the preparation and submission of proposals to be adversely affected. Due to this interruption, the deadline for submission of applications is extended. All applications must now be submitted to the U.S. Department of Labor, Procurement Services Center, Room N-5416, 200 Constitution Avenue, NW. Washington, DC 20210, not later than 4:45 p.m. EDT, August 25, 2003.

FOR FURTHER INFORMATION CONTACT: Lisa Harvey, Department of Labor, Telephone (202) 693-4570, e-mail: harvey-lisa@dol.gov.

Signed at Washington, DC this 18th day of August, 2003.
Lawrence J. Kuss,
Director, Procurement Services Center.

[FR Doc. 03-21553 Filed 8-21-03; 8:45 am]

BILLING CODE 4510-28-M